DEPARTMENT OF ENERGY

Environmental Management Site-Specific Advisory Board, Idaho Cleanup Project

AGENCY: Office of Environmental Management, Department of Energy.

ACTION: Notice of open meeting.

SUMMARY: This notice announces a virtual open meeting of the Environmental Management Site-Specific Advisory Board (EM SSAB), Idaho Cleanup Project (ICP). The Federal Advisory Committee Act requires that public notice of this meeting be announced in the Federal Register.

DATES: Thursday, February 16, 2023; 9 a.m.-3 p.m. MT.

The opportunities for public comment are at 11 a.m. and 1 p.m. MT.

These times are subject to change; please contact the ICP Citizens Advisory Board (CAB) Administrator (below) for confirmation of times prior to the meeting.

ADDRESSES: This virtual meeting will be open to the public via Zoom. To attend virtually, please contact Jordan Davies, ICP CAB Administrator, by email jdavies@northwindgrp.com or phone (720) 775-7522, no later than 5 p.m. MT on Tuesday, February 14, 2023.

FOR FURTHER INFORMATION CONTACT: Jordan Davies, ICP CAB Administrator, by phone (720) 775-7522 or email jdavies@northwindgrp.com or visit the Board's internet homepage at https://energy.gov/em/icpcab.

SUPPLEMENTARY INFORMATION:

Purpose of the Board: The purpose of the Board is to make recommendations to DOE-EM and site management in the areas of environmental restoration, waste management, and related activities.

Tentative Agenda (agenda topics may change up to the day of the meeting; please contact Jordan Davies for the most current agenda):

1. Recent Public Outreach

2. Program Presentations

3. DOE Presentation

4. EM SSAB Meeting Update

Public Participation: The virtual meeting is open to the public via Zoom. To sign-up for public comment, please contact the ICP CAB Administrator (above) no later than 5 p.m. MT on Tuesday, February 14, 2023. In addition to participation in the live public comment sessions identified above, written statements may be filed with the Board either five days before or five days after the meeting by sending them to the ICP CAB Administrator at the aforementioned email address. Written public comment received prior to the meeting will be read into the record. The Deputy Designated Federal Officer is empowered to conduct the meeting in a fashion that will facilitate the orderly conduct of business. Individuals wishing to make public comments will be provided a maximum of five minutes to present their comments.

Minutes: Minutes will be available by writing or calling Jordan Davies, ICP CAB Administrator, phone (720) 775-7522 or email jdavies@northwindgrp.com. Minutes will also be available at the following website: https://www.energy.gov/em/icpcab/listings/cab-meetings.

Signed in Washington, DC, on January 13, 2023.
LaTanya Butler,
Deputy Committee Management Officer.

[FR Doc. 2023-00938 Filed 1-18-23; 8:45 am]

BILLING CODE 6450-01-P